SMALL BUSINESS ADMINISTRATION

National Small Business Development Centers Advisory Board

AGENCY: U.S. Small Business Administration.

ACTION: Notice of open Federal Advisory Committee meetings.

SUMMARY: The SBA is issuing this notice to announce the location, date, time and agenda for July and August meetings of the Federal Advisory Committee for the Small Business Development Centers Program. The meetings will be open to the public; however, advance notice of attendance is required.

DATES:

Tuesday, July 18, 2017, at 1:00 p.m. EST

Tuesday, August 15, 2017, at 1:00 p.m. EST

ADDRESSES: All meetings will be held via conference call.

FOR FURTHER INFORMATION CONTACT: Monika Nixon, Office of Small Business Development Center, U.S. Small Business Administration, 409 Third Street SW., Washington, DC 20416; monika.nixon@.sba.gov.

If anyone wishes to be a listening participant or would like to request accommodations, please contact Monika Nixon at the information above.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of the meetings is to discuss the following issues pertaining to the SBDC Program:

SBA Update

Annual Meetings

Board

Assignments

Member Roundtable

Richard Kingan,
Acting White House Liaison.

[FR Doc. 2017-11490 Filed 6-2-17; 8:45 am]

BILLING CODE 8025-01-P